DEPARTMENT OF COMMERCE

International Trade Administration

[A-533-873]

Certain Cold-Drawn Mechanical Tubing of Carbon and Alloy Steel From India: Preliminary Results of Antidumping Duty Administrative Review; 2019-2020

AGENCY: Enforcement and Compliance, International Trade Administration, Department of Commerce.

SUMMARY: The Department of Commerce (Commerce) preliminarily determines that sales of certain cold-drawn mechanical tubing of carbon and alloy steel (cold-drawn mechanical tubing) from India were made at less than normal value during the period of review (POR) June 1, 2019, through May 31, 2020. We invite interested parties to comment on these preliminary results.

DATES: Applicable June 28, 2021.

FOR FURTHER INFORMATION CONTACT: Alexis Cherry or Samantha Kinney, AD/CVD Operations, Office VIII, Enforcement and Compliance, International Trade Administration, U.S. Department of Commerce, 1401 Constitution Avenue NW, Washington, DC 20230; telephone: (202) 482-0607 or (202) 482-2285, respectively.

SUPPLEMENTARY INFORMATION:

Background

On June 11, 2018, Commerce published the antidumping duty order on cold-drawn mechanical tubing from India.¹ On August 6, 2020, in accordance with 19 CFR 351.221(c)(i), Commerce initiated an administrative review of the Order, covering three producers/exporters.² On October 7, 2020, Pennar Industries Limited (a mandatory respondent) withdrew its request for administrative review of itself.³ Based on this request, we rescinded this review with respect to Pennar Industries Limited, in accordance with 19 CFR 351.213(d)(1).⁴ The administrative review remains active with respect to the two remaining companies for which a review was initiated, i.e., Goodluck India Limited (Goodluck) ⁵ and Tube Products of India, Ltd., a unit of Tube Investments of India Limited (collectively, TII). For details regarding the events that followed the initiation of this review, see the Preliminary Decision Memorandum.⁶

¹ See Certain Cold-Drawn Mechanical Tubing of Carbon and Alloy Steel from the People's Republic of China, the Federal Republic of Germany, India, Italy, the Republic of Korea, and Switzerland: Antidumping Duty Orders; and Amended Final Determinations of Sales at Less Than Fair Value for the People's Republic of China and Switzerland, 83 FR 26962 (June 11, 2018) (Order).

² See Initiation of Antidumping and Countervailing Duty Administrative Reviews, 85 FR 47734 (August 6, 2020).

³ See Pennar Industries Limited, “Withdrawal of Request for the Antidumping Duty of Pennar Industries Limited,” October 7, 2020.

⁴ See Certain Cold-Drawn Mechanical Tubing of Carbon and Alloy Steel from India: Partial Rescission of Antidumping Duty Administrative Review; 2019-2020, 85 FR 68039 (October 27, 2020).

⁵ Commerce is only reviewing entries that were produced, but not exported, by Goodluck, and/or entries that were exported, but not produced, by Goodluck. Pursuant to a Court of International Trade decision, effective May 10, 2020, Commerce excluded from the antidumping duty order certain cold-drawn mechanical tubing of carbon and alloy steel that was produced and exported by Goodluck. See Certain Cold-Drawn Mechanical Tubing of Carbon and Alloy Steel from India: Notice of Court Decision Not in Harmony with Final Determination of Sales at Less Than Fair Value; Notice of Amended Final Determination Pursuant to Court Decision; and Notice of Revocation of Antidumping Duty Order, in Part, 85 FR 31742 (May 27, 2020) (Timken Notice).

⁶ See Memorandum, “Certain Cold-Drawn Mechanical Tubing of Carbon and Alloy Steel from India: Decision Memorandum for Preliminary Results of Antidumping Duty Administrative Review and Preliminary Determination of No Shipments; 2018-2019,” dated concurrently with, and hereby adopted by, this notice (Preliminary Decision Memorandum).

Pursuant to section 751(a)(3)(A) of the Tariff Act of 1930, as amended (the Act), Commerce determined that it was not practicable to complete the preliminary results of this review within 245 days and extended the deadline for the preliminary results of this review by 120 days, until June 30, 2021.⁷

⁷ See Memorandum, “Extension of Deadline for Preliminary Results of Antidumping Duty Administrative Review; 2019-2020,” dated February 9, 2021.

Scope of the Order

The product covered by this Order is cold-drawn mechanical tubing from India. For a full description of the scope, see the Preliminary Decision Memorandum.

Methodology

Commerce is conducting this review in accordance with section 751(a) of the Act. For a full description of the methodology underlying these preliminary results, see the Preliminary Decision Memorandum. A list of topics included in the Preliminary Decision Memorandum is included as an appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum is available at http://enforcement.trade.gov/frn/.

Preliminary Results of the Review

We preliminarily determine that the following weighted-average dumping margin exists for the period June 1, 2019, through May 31, 2020:

Exporter/producer | Weighted- average dumping margin (percent)
Tube Products of India, Ltd., a unit of Tube Investments of India Limited | 13.06

Preliminary Determination of No Shipments

We preliminarily determine that Goodluck had no shipments of the subject merchandise to the United States during the POR.⁸ Consistent with its practice, Commerce finds that it is not appropriate to preliminarily rescind the review with respect to Goodluck, but rather to complete the review and issue appropriate instructions to U.S. Customs and Border Protection (CBP) based on the final results of this review.

⁸ See Preliminary Decision Memorandum; see also Memorandum, “No Shipments Determination—Goodluck India Limited,” dated concurrently with this notice.

Disclosure and Public Comment

We intend to disclose the calculations performed to parties within five days after public announcement of the preliminary results.⁹ Pursuant to 19 CFR 351.309(c), interested parties may submit case briefs no later than 30 days after the date of publication of this notice. Rebuttal briefs, limited to issues raised in the case briefs, may be filed not later than seven days after the date for filing case briefs.¹⁰ Parties who submit case briefs or rebuttal briefs in this proceeding are encouraged to submit with each argument: (1) A statement of the issue; (2) a brief summary of the argument; and (3) a table of authorities.¹¹ Executive summaries should be limited to five pages total, including footnotes. Case and rebuttal briefs should be filed using ACCESS ¹² and must be served on interested parties.¹³ Note that Commerce has temporarily modified certain of its requirements for serving documents containing business proprietary information, until further notice.¹⁴

⁹ See 19 CFR 351.224(b).

¹⁰ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect).”).

¹¹ See 19 CFR 351.303 (for general filing requirements).

¹² See generally 19 CFR 351.303.

¹³ See 19 CFR 351.303(f).

¹⁴ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS. An electronically-filed document must be received successfully in its entirety by Commerce's electronic records system, ACCESS, by 5:00 p.m. Eastern Time within 30 days after the date of publication of this notice. Requests should contain: (1) The party's name, address, and telephone number; (2) the number of participants; and (3) a list of issues to be discussed. Issues raised in the hearing will be limited to those raised in the respective case and rebuttal briefs. If a request for a hearing is made, Commerce intends to hold the hearing at a time and date to be determined.

Assessment Rates

Pursuant to section 751(a)(2)(A) of the Act and 19 CFR 351.212(b)(1), Commerce will determine, and CBP shall assess, antidumping duties on all appropriate entries of subject merchandise in accordance with the final results of this review. Commerce intends to issue assessment instructions to CBP 35 days after the date of publication of the final results of this administrative review in the Federal Register.

For any individually examined respondent whose weighted-average dumping margin is above de minimis (i.e., 0.50 percent), upon completion of the final results, Commerce will calculate importer-specific assessment rates on the basis of the ratio of the total amount of dumping calculated for the importer's examined sales and the total entered value of sales. Where we do not have entered values for all U.S. sales to a particular importer/customer, we will calculate a per-unit assessment rate by aggregating the antidumping duties due for all U.S. sales to that importer (or customer) and dividing this amount by the total quantity sold to that importer (or customer).¹⁵ To determine whether the duty assessment rates are de minimis, in accordance with the requirement set forth in 19 CFR 351.106(c)(2), we calculate importer- (or customer-) specific ad valorem ratios based on the estimated entered value. Where either a respondent's weighted-average dumping margin is zero or de minimis, or an importer- (or customer-) specific ad valorem rate is zero or de minimis, we will instruct CBP to liquidate appropriate entries without regard to antidumping duties.¹⁶

¹⁵ See 19 CFR 351.212(b)(1).

¹⁶ See 19 CFR 352.106(c)(2); see also Antidumping Proceeding: Calculation of the Weighted-Average Dumping Margin and Assessment Rate in Certain Antidumping Proceedings; Final Modification, 77 FR 8101, 8103 (February 14, 2012).

For each company which we determined had “no shipments” of the subject merchandise during the POR, upon completion of the final results, we will instruct CBP to liquidate all POR entries associated with that company at the all-others rate if there is no rate for the intermediate company(ies) involved in the transaction, consistent with Commerce's reseller policy.¹⁷

¹⁷ For a full discussion of this practice, see Antidumping and Countervailing Duty Proceedings: Assessment of Antidumping Duties, 68 FR 23954 (May 6, 2003).

For entries of subject merchandise during the POR produced by each individually examined respondent for which it did not know its merchandise was destined for the United States, we will instruct CBP to liquidate such entries at the all-others rate if there is no rate for the intermediate company(ies) involved in the transaction. The final results of this review shall be the basis for the assessment of antidumping duties on entries of merchandise covered by the final results of this review and for future deposits of estimated duties, where applicable.¹⁸

¹⁸ See section 751(a)(2)(C) of the Act.

As noted in the Timken Notice regarding Goodluck, the suspension of liquidation of Goodluck's entries must continue during the pendency of the process of appealing the Court of International Trade's ruling. If the ruling is upheld by the Court of Appeals for the Federal Circuit, Commerce will instruct CBP to terminate the suspension of liquidation and liquidate entries produced and exported by Goodluck without regard to antidumping duties.

Cash Deposit Requirements

The following cash deposit requirements will be effective for all shipments of the subject merchandise entered, or withdrawn from warehouse, for consumption on or after the publication date of the finals results of this administrative review, as provided by section 751(a)(2)(C) of the Act: (1) The cash deposit rate for TII will be equal to the weighted-average dumping margin established in the final results of this administrative review; (2) for merchandise exported by producers or exporters not covered in this review but covered in a prior segment of the proceeding, the cash deposit rate will continue to be the company-specific rate published for the most recently-completed segment of this proceeding in which they were reviewed; (3) if the exporter is not a firm covered in this review or the original investigation but the producer is, the cash deposit rate will be the rate established for the most recently completed segment of this proceeding for the producer of the merchandise; (4) the cash deposit rate for all other producers or exporters will continue to be 5.87 percent,¹⁹ the all-others rate established in the less-than-fair-value investigation. These cash deposit requirements, when imposed, shall remain in effect until further notice.

¹⁹ See Order, 83 FR at 16296.

Final Results of Review

Unless otherwise extended, Commerce intends to issue the final results of this administrative review, including the results of our analysis of issues raised by the parties in the written comments, within 120 days of publication of these preliminary results in the Federal Register, pursuant to section 751(a)(3)(A) of the Act and 19 CFR 351.213(h)(1).

Notification to Importers

This notice also serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

These preliminary results are being issued and published in accordance with sections 751(a)(1) and 777(i)(1) of the Act, and 19 CFR 351.221(b)(4).

Dated: June 22, 2021.
James Maeder,
Deputy Assistant Secretary for Antidumping and Countervailing Duty Operations.

Appendix

List of Topics Discussed in the Preliminary Decision Memorandum

I. Summary

II. Background

III. Scope of the Order

IV. Preliminary Determination of No Shipments

V. Discussion of the Methodology

VI. Currency Conversion

VII. Recommendation

[FR Doc. 2021-13732 Filed 6-25-21; 8:45 am]

BILLING CODE 3510-DS-P